DEPARTMENT OF COMMERCE

National Oceanic and Atmospheric Administration

50 CFR Part 635

[I.D. 051603C]

RIN 0648-AQ65

Atlantic Highly Migratory Species; Amendments to the Fishery Management Plan (FMP) for Atlantic Tunas, Swordfish, and Sharks and the FMP for Atlantic Billfish

AGENCY: National Marine Fisheries Service (NMFS), National Oceanic and Atmospheric Administration (NOAA), Commerce.

ACTION: Rescheduling and addition of public hearings.

SUMMARY: Due to the damage caused by Hurricanes Katrina and Rita, and the subsequent cancellation of three public hearings previously scheduled on the draft consolidated Highly Migratory Species (HMS) Fishery Management Plan (FMP) and proposed rule, NMFS is rescheduling public hearings in Orange Beach, AL, and Key West, FL. NMFS is also adding an additional hearing location in Houma, LA, to provide constituents an opportunity to comment from regions in close proximity to New Orleans, LA. The draft consolidated HMS FMP and the proposed rule describe a range of management measures that could impact fishermen and dealers for all HMS fisheries.

DATES: The public hearings will be held on January 11, 2006, from 7 p.m. to 10 p.m. local time, on January 30, 2006, from 7 p.m. to 10 p.m. local time, and on February 1, 2006, from 1 p.m. to 4 p.m. local time. Written comments must be received by March 1, 2006.

ADDRESSES: The public hearings will be held in the following locations:

• January 11, 2006 -- Doubletree Grand Key Resort, 3990 S. Roosevelt Boulevard, Key West, FL 33040;

• January 30, 2006 -- Orange Beach Senior Center, 26251 Canal Road, Orange Beach, AL 36561; and

• February 1, 2006 -- 1268 Highway 182 West, Houma, LA 70364.

Written comments on the proposed rule and draft HMS FMP may be submitted to Karyl Brewster-Geisz, Highly Migratory species Management Division:

• E-mail: SF1.060303D@noaa.gov. Include in the subject line the following identifier: Atlantic HMS FMP.

• Mail: 1315 East-West Highway, silver spring, MD 20910. Please mark the outside of the envelope “Comments on Draft HMS FMP.”

• Fax: 301-427-2592

• Federal e-rulemaking Portal: http://www.regulations.gov.

FOR FURTHER INFORMATION CONTACT: Heather Stirratt or Karyl Brewster-Geisz at (301) 713-2347.

SUPPLEMENTARY INFORMATION: The Atlantic HMS fisheries are managed under the dual authority of the Magnuson-Stevens Fishery Conservation and Management Act (Magnuson-Stevens Act) and the Atlantic Tunas Convention Act (ATCA). The FMP for Atlantic Tunas, Swordfish, and Sharks, finalized in 1999, and the FMP for Atlantic Billfish, finalized in 1988, are implemented by regulations at 50 CFR part 635.

On August 19, 2005 (70 FR 48804), NMFS published a proposed rule that, among other things, announced the availability of the draft consolidated HMS FMP. Included in this proposed rule was a list of 24 public hearings throughout September and October 2005. These hearings were scheduled for NMFS to receive comments from fishery participants and other members of the public regarding the proposed rule and draft HMS FMP. NMFS is requesting comments on any of the alternatives or analyses described in this proposed rule and in the draft HMS FMP. NMFS also requests comments on specific items related to those alternatives to clarify certain sections of the regulatory text or in analyzing potential impacts of the alternatives, including: the costs of outfitting a commercial vessel with green-stick gear; proxy designations for the HMS identification workshops; the number of fishing floats that may be possessed or deployed from longline vessels and how floats should be defined; whether or not the indicator species proposed to be listed at 50 CFR part 635 in tables 2 and 3 of Appendix A are appropriate; and proposed billfish measures. For more information on the alternatives or specific requests for comments please see the proposed rule and draft HMS FMP. Comments on the draft HMS FMP may be submitted via writing, email, fax, or phone (see ADDRESSES).

Due to the damage caused by Hurricanes Katrina and Rita, NMFS cancelled three public hearings that were scheduled for September 6, 8, and 21, 2005, in Orange Beach, AL, New Orleans, LA, and Key West, FL, respectively. NMFS is now rescheduling the public hearings in Orange Beach, AL, and Key West, FL, and adding a public hearing in Houma, LA. For specific information about public hearing dates, times, and locations see DATES and ADDRESSES.

NMFS continues to be interested in alternative outreach mechanisms (i.e., informal face-to-face meetings) for the purposes of obtaining public comment from individuals that are not able to attend public hearings due to natural disasters. As such, NMFS will consider requests for informal meetings on a case by case request basis. To request an informal meeting contact Heather Stirratt (see FOR FURTHER INFORMATION CONTACT).

The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

These meetings are physically accessible to people with disabilities. Requests for sign language interpretation or other auxiliary aids should be directed to Heather Stirratt, (301) 713-2347, at least 7 days prior to the hearing in question.

Authority: 5 U.S.C. 561 and 16 U.S.C. 1801 et seq.

Dated: December 20, 2005.
John H. Dunnigan,
Director, Office of Sustainable Fisheries, National Marine Fisheries Service.

[FR Doc. E5-7848 Filed 12-23-05; 8:45 am]

BILLING CODE 3510-22-S